CONSUMER PRODUCT SAFETY COMMISSION

[Docket No. CPSC-2009-0102]

Agency Information Collection Activities; Extension of Collection; National Electronic Injury Surveillance System (NEISS) and Follow-Up Activities for Product Related Injuries

AGENCY: Consumer Product Safety Commission.

ACTION: Notice of information collection; request for comment.

SUMMARY: As required by the Paperwork Reduction Act of 1995, the Consumer Product Safety Commission (CPSC or Commission) announces that the Commission has submitted to the Office of Management and Budget (OMB) a request for extension of approval of information collection to obtain data on consumer product-related injuries, and follow-up activities for product-related injuries. OMB previously approved the collection of information under control number 3041-0029. OMB's most recent extension of approval will expire on May 31, 2025. On February 27, 2025, CPSC published a notice in the Federal Register to announce the agency's intention to seek extension of approval of the collection of information. The Commission received four comments. By publication of this notice, the Commission announces that CPSC has submitted to the OMB a request for extension of this collection of information.

DATES: Submit comments on the collection of information by June 23, 2025.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at http://www.regulations.gov, under Docket No. CPSC-2009-0102.

FOR FURTHER INFORMATION CONTACT: Cynthia Gillham, Consumer Product Safety Commission, 4330 East West Highway, Bethesda, MD 20814; (301) 504-7791, or by email to: pra@cpsc.gov.

SUPPLEMENTARY INFORMATION: CPSC seeks to renew the following currently approved collection of information:

Title: National Electronic Injury Surveillance System (NEISS) and Follow-up Activities for Product Related Injuries.

OMB Number: 3041-0029.

Type of Review: Extension of collection.

Frequency of Response: On occasion.

Affected Public: Hospitals and individuals.

General Description of Collection: The Consumer Product Safety Act (CPSA) requires the Commission to collect information related to the cause and prevention of death, injury, and illness associated with consumer products. 15 U.S.C. 2054(a). CPSC conducts continuing studies and investigations of deaths, injuries, diseases, other health impairments, and economic losses resulting from incidents involving consumer products. CPSC obtains information about product-related deaths, injuries, and illnesses from a variety of sources, including news outlets, death certificates, consumer complaints, and medical facilities. In addition, CPSC operates the National Electronic Injury Surveillance System (NEISS) to collect data on consumer product-related injuries treated in hospital emergency departments in the United States. CPSC also uses the NEISS system to collect information on childhood poisonings in accordance with the Poison Prevention Packaging Act of 1970.

From these sources, the CPSC selects cases of interest for further investigation by contacting individuals who witnessed or were injured in incidents involving consumer products. These investigations are conducted on-site (face-to-face), by telephone, or by the internet. This information is also collected by contacting state and local officials, including police, coroners and fire investigators, and others with knowledge of the incident.

CPSC uses the information from this collection to support development and improvement of voluntary standards; proceedings for the development of mandatory standards and regulations; information and education campaigns; and administrative and judicial proceedings for enforcement of the statutes, standards, and regulations administered by the agency. The information collected informs the agency in its efforts to remove unsafe products from channels of distribution and consumers' homes, and it provides information to the public about the safety of consumer products.¹

¹ Through Interagency Agreements, the CPSC also has used and can use the NEISS system to collect information on injuries for the Centers for Disease Control and Prevention (CDC) (NEISS All Injury Program (NEISS-AIP)). In addition to the standard data variables that have been collected and can be collected on all NEISS injuries, the NEISS-AIP collects additional variables on several studies for CDC (Firearm-Related Injuries, Adverse Drug Events, Assaults, and Self- Inflicted Violence) and one study on non-crash motor vehicle-related injuries for the National Highway and Transportation Safety Administration (NHTSA).

Estimated Number of Respondents: CPSC estimates a total number of 3,110 respondents, annually. CPSC estimates 160 respondents to NEISS, which includes hospitals that directly report information to NEISS and hospitals that allow access to a CPSC contractor who collects the data for NEISS. CPSC estimates 2,950 individual respondents expected to be interviewed by CPSC for further investigations of reported cases.

Estimated Time per Response: All NEISS data are reported electronically and NEISS coders directly submit data to CPSC through the internet on a CPSC-developed application called WebNEISS. The NEISS coders review an estimated 4.5 million emergency department charts annually. Each chart review requires approximately 30 seconds to review and determine if the record is reportable. On average, the 1.15 million reportable records take 2 minutes each to enter into WebNEISS. Records that qualify for a special study take an additional 90 seconds to 2 minutes to code. Collecting emergency department records for review, correcting error messages, and other tasks takes between 2.5 and 6 hours weekly. Respondents also spend about 8-36 hours per year participating in related activities (training, evaluations, and communicating with other hospital staff). The average burden per respondent is 720 hours. However, the total burden hours on each respondent varies, due to differences in the sizes of the hospitals (e.g., small rural hospitals versus large metropolitan hospitals). The smallest hospital will report an estimated 250 cases with a burden of about 150 hours, while the largest hospital will report an estimated 65,000 cases with a burden of about 4,500 hours.

Information for follow-up investigations from NEISS and other sources is collected through traditional face-to-face, telephone, or internet-based interviews with consumers, witnesses, and other knowledgeable parties, such as fire, police, and healthcare professionals. On average, an on-site interview takes about 4.5 hours. CPSC staff also complete about 750 in-depth investigations (IDIs) by telephone through the use of a Computer Assisted Telephone Interview (CATI) or self-administered Computer Assisted Internet Interviews (CAII) questionnaires. Each CATI or CAII IDI requires about 20 minutes to complete. CPSC estimates 13,523 annual burden hours on these respondents: 13,275 hours for face-to-face interviews and 248 hours for in-depth telephone or internet interviews.

Total Estimated Annual Burden: Table 1 summarizes the burden of the collection. The total estimated annualized burden to respondents is 128,523 hours (115,248 for NEISS respondents and 13,523 for individuals).

Table 1—Average Annual Burden
| Respondents | Frequency | Responses | Burden per response (minutes) | Total burden (hours)
NEISS | 160 | 7,188 | 1,150,000 | 6.0 | 115,000
Other Respondents | 2,950 | 1 | 2,950 | 275.0 | 13,523
Total | 3,110 | 371 | 1,152,950 | 6.7 | 128,523

Total Estimated Annual Cost to Respondents: The total costs to NEISS respondents are estimated at approximately $6.9 million. NEISS respondents enter into contracts with CPSC and are compensated for these costs. The average cost per respondent is estimated to be about $43,000. The average cost per burden hour is estimated to be $60 per hour (including wages and overhead). However, the actual cost to each respondent varies due to the type of respondent (hospital versus CPSC contractor), size of hospital, and regional differences in wages and overhead. Therefore, the actual annual cost for any given respondent may vary between $3,000 at a small rural hospital, and $550,000 at the largest metropolitan hospital.

CPSC estimates the value of the time required for reporting by other respondents to be $46.84 an hour, the average cost for employee compensation for civilian workers (U.S. Bureau of Labor Statistics, “Employer Costs for Employee Compensation,” September 2024: https://www.bls.gov/news.release/archives/ecec_12172024.pdf). At this valuation, the estimated annual cost to the public is about $633,417 (13,523 burden hours × $46.84 per hour = $633,417.32).

Response to Public Comments: The Commission received four public comments. Three commenters, two anonymous and one from ASTM International Committee F15 on Consumer Products, expressed support for the renewal of information collection, with one anonymous commenter suggesting that the Commission utilize artificial intelligence (AI) to enhance information gathering and analysis. With the implementation of WebNEISS in 2024, CPSC integrated AI into the NEISS data collection to identify potential misentries based on logical inconsistencies. CPSC staff continue to explore, test, implement, and utilize advanced AI in all phases of the NEISS data collection, processing, and dissemination.

The remaining commenter is Best Practice Quality LLC, which states it is a consulting firm. It recommended expanding the data fields to include product identifiers, usage context, and product condition to improve the quality and utility of NEISS data. It encouraged CPSC to provide prompts to hospital personnel to capture details about product involvement. It also encouraged the use of modern technologies to reduce reporting burden while providing accuracy. In addition, it encouraged collaboration with stakeholders to refine the data taxonomy and align NEISS inputs with evolving product safety standards.

NEISS is a voluntary program that relies on existing medical records information collected by hospital emergency departments using their existing infrastructure. Doctors, nurses, and intake personnel note what occurred that led to the injury, which often includes the mention of a consumer product, however, they rarely capture product brand names and models in their work as such information is rarely relevant to patient care. The narratives will sometimes describe whether a product was new or used, and the way the product was involved, to provide usage context. CPSC makes efforts to encourage medical staff at NEISS hospitals to include consumer product information in their records documentation, but the staff in the hospital departments ultimately decide what will go into the medical record which exists primarily for the hospital and its patients.

CPSC does not include brands or models in the data it shares publicly with ASTM due to restrictions in section 6(b) of the Consumer Product Safety Act. 15 U.S.C. 2055(b). With regard to the use of modern technologies, as mentioned above, CPSC uses AI-assisted logic in the use of its internet-enabled application to collect data.

Making changes to data taxonomy is done judiciously, as one of the functions of NEISS is to be able to detect changes over time to determine whether safety advances and interventions have been successful and to what degree. Agency staff meets regularly to discuss coding practices, including adding or altering product codes to account for changes in the products associated with injuries. Staff assigned to voluntary standards work have contributed to these deliberations, which has led to changes as needed.

Alberta E. Mills,
Secretary, Consumer Product Safety Commission.

[FR Doc. 2025-09251 Filed 5-22-25; 8:45 am]

BILLING CODE 6355-01-P